DEPARTMENT OF COMMERCE

International Trade Administration

[A-570-049]

Ammonium Sulfate From the People's Republic of China: Correction to the Preliminary Determination of Sales at Less Than Fair Value

AGENCY: Enforcement and Compliance, International Trade Administration, Department of Commerce.

FOR FURTHER INFORMATION CONTACT: Maliha Khan or Thomas Martin, AD/CVD Operations, Office IV, Enforcement and Compliance, International Trade Administration, Department of Commerce, 1401 Constitution Avenue NW., Washington, DC 20230; telephone: (202) 482-0895 or (202) 482-3936, respectively.

SUPPLEMENTARY INFORMATION: On November 9, 2016, the Department of Commerce (“the Department”) published the preliminary results of the investigation of sales at less than fair value for ammonium sulfate from the People's Republic of China (“PRC”).¹

¹ See Ammonium Sulfate from the People's Republic of China: Preliminary Determination of Sales at Less Than Fair Value; 81 FR 78776 (November 9, 2016) (“Preliminary Determination”).

The Department is issuing this notice to correct an inadvertent error in the Federal Register notice for the Preliminary Determination. Specifically, the Department stated an incorrect deadline for submitting case briefs or other written comments in the “Disclosure and Public Comment” section of the Preliminary Determination notice. The notice states that “{c}ase briefs or other written comments may be submitted to the Assistant Secretary for Enforcement and Compliance no later than seven days after the date on which the final verification report is issued in this proceeding . . .” ² However, the correct deadline, as stated in the preliminary determination memorandum accompanying the Preliminary Determination notice is “no later than 30 days after the publication of this preliminary determination in the Federal Register.” ³ Accordingly, the deadline for filing case briefs is December 9, 2016.

² Id., at 78776-78777.

³ See Memorandum from Christian Marsh to Paul Piquado, “Decision Memorandum for the Preliminary Determination of the Less Than Fair Value Investigation of Ammonium Sulfate from the People's Republic of China,” dated November 1, 2016, at 11.

This correction to the preliminary determination of sales at less than fair value is issued and published in accordance with sections 733(f) and 777(i)(1) of the Tariff Act of 1930, as amended.

Dated: November 16, 2016.
Paul Piquado,
Assistant Secretary for Enforcement and Compliance.

[FR Doc. 2016-28226 Filed 11-22-16; 8:45 am]

BILLING CODE 3510-DS-P